DEPARTMENT OF HEALTH AND HUMAN SERVICES

Administration for Children and Families

Submission for OMB Review; Tribal Budget and Narrative Justification Template (New Collection)

AGENCY: Office of Child Support Enforcement; Administration for Children and Families; HHS.

ACTION: Request for public comment.

SUMMARY: The Office of Child Support Enforcement (OCSE), Administration for Children and Families (ACF), U.S. Department of Health and Human Services (HHS), is proposing to collect expenditure estimates for the Tribal Child Support Enforcement Program through an optional financial reporting form, Tribal Budget and Narrative Justification Template. This optional template is designed for tribes operating an approved Tribal Child Support Enforcement Program to use in preparing their annual budget and narrative justification estimates in accordance with the tribal child support enforcement regulations.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: To receive child support funding under 45 CFR part 309, tribes and tribal organizations must submit the financial forms described in 45 CFR 309.130(b) and other forms as the Secretary may designate, due no later than August 1 annually. The optional Tribal Budget and Narrative Justification Template will help to improve efficiency and establish uniformity and consistency in the annual budget submission and review process. Tribes may use the Excel or Word version of the template to submit the required financial information.

Respondents: Tribes and tribal organizations administering a Tribal Child Support Enforcement Program under title IV-D of the Social Security Act.

Annual Burden Estimates
Instrument | Total number of respondents | Total number of responses per respondent | Average burden hours per response | Total burden hours | Annual burden hours
Tribal Budget and Narrative Justification—Excel | 50 | 3 | 16 | 2,400 | 800
Tribal Budget and Narrative Justification—Word | 10 | 3 | 20 | 600 | 200

Estimated Total Annual Burden Hours: 1,000.

Authority: 45 CFR 309.

Mary B. Jones,
ACF/OPRE Certifying Officer.

[FR Doc. 2020-09713 Filed 5-6-20; 8:45 am]

BILLING CODE 4184-41-P